DEPARTMENT OF TRANSPORTATION

Federal Aviation Administration

Notice of Intent To Rule on Request To Release Airport Property at the Waterloo Regional Airport, Waterloo, IA

AGENCY: Federal Aviation Administration, (FAA), DOT.

ACTION: Notice of request to release airport property.

SUMMARY: The FAA proposes to rule and invites public comment on the release of land at the Waterloo Regional Airport under the provisions of section 125 of the Wendell H. Ford Aviation Investment Reform Act for the 21st Century (AIR 21).

DATES: Comments must be received on or before March 26, 2007.

ADDRESSES: Comments on this application may be mailed or delivered to the FAA at the following address: Federal Aviation Administration, Central Region, Airports Division, ACE-600, 901 Locust, Kansas City, Missouri 64106-2325.

In addition, one copy of any comments submitted to the FAA must be mailed or delivered to Mr. Bradley Hagan, Director of Aviation, Waterloo Regional Airport, 2790 Livingston Lane, Waterloom Iowa 50703.

FOR FURTHER INFORMATION CONTACT: Nicoletta S. Oliver, Airports Compliance Specialist, Federal Aviation Administration, Central Region, Airports Division, ACE-610C, 901 Locust, Kansas City, Missouri 64106-2325.

The request to release property may be reviewed in person at this same location.

SUPPLEMENTARY INFORMATION: The FAA invites public comment on the request to release property at the Waterloo Regional Airport under the provisions of AIR21.

On February 6, 2007, the FAA determined that the request to release property at the Waterloo Regional Airport submitted by the City of Waterloo met the procedural requirements of the Federal Aviation Administration.

The FAA will approve or disapprove the request, in whole or in part, no later than May 31, 2007.

The following is a brief overview of the request.

The Waterloo Regional Airport requests the release of approximately 311 acres of airport property. The property is currently being farmed and not used for aeronautical purposes. The release of the property will provide an opportunity for the property to be developed for commercial or light industrial uses.

The Federal share of the proceeds obtained from the sale of Parcel A, containing approximately 42.12 acres, will be used for future FAA-Airport Improvement Program (AIP) eligible projects at the Waterloo Regional Airport and the proceeds obtained from the sale of the remaining property will be used to repay bonds that were sold for redevelopment of the Terminal Building.

Any person may inspect the request in person at the FAA office listed above under FOR FURTHER INFORMATION CONTACT.

In addition, any person may inspect the request, notice and other documents germane to the request in person at the Waterloo Regional Airport.

Issued in Kansas City, Missouri, on February 14, 2007.
George A. Hendon,
Manager, Airports Division, Central Region.

[FR Doc. 07-802 Filed 2-22-07; 8:45 am]

BILLING CODE 4910-13-M